DEPARTMENT OF TRANSPORTATION

Federal Aviation Administration

Notice of Intent ot Prepare an Environmental Impact Statement and To Conduct Environmental Scoping for Improvements To the O'Hare International Airport, in Chicago, IL

AGENCY: Federal Aviation Administration, DOT.

ACTION: Issuance of A Notice of Intent (NOI) to Prepare an Environmental Impact Statement and to Conduct Public Scoping Meetings.

SUMMARY: This NOI announces the Federal Aviation Administration's (FAA) intention to prepare an Environmental Impact Statement and to conduct public scoping meetings for a number of potential modernization and improvement initiatives at Chicago's O'Hare International Airport. Due both to the anticipated high level of interest in matters pertaining to O'Hare International Airport, and a desire to fully accommodate potentially interested persons, agencies, and other entities, the FAA will conduct two (2) agency scoping meetings and two (2) public scoping meetings. The agency scoping meetings will be conducted as follows: Monday, August 19, 2002 from 10 a.m. to 1 p.m. at the Illinois Department of Transportation's (IDOT) Auditorium Conference Room located in the IDOT Offices at 2300 South Dirksen Parkway in Springfield, Illinois; and on Tuesday, August 20, 2002 from 10 a.m. to 1 p.m. in the Metcalfe Federal Building's Lake Ontario Conference Room (12th floor) at 77 West Jackson Boulevard, in Chicago, Illinois. The public scoping meetings will be conducted as follows: Wednesday, August 21, 2002, from 4 p.m. to 8 p.m. in the Fountain Blue Banquets facility located at 2300 South Mannheim Road, in Des Plaines, Illinois; and on Thursday, August 22, 2002, from 4 p.m. to 8 p.m. in the Avalon Banquets facility located at 1905 East Higgins Road, in Elk Grove Village, Illinois.

FOR FURTHER INFORMATION CONTACT: Michael W. MacMullen, Airports Environmental Program Manager, Federal Aviation Administration, Chicago Airports District Office, 2300 East Devon Avenue, Des Plaines, Illinois 60018. Mr. MacMullen can be contracted by phone at (847) 294-7522 (voice) and at (847) 294-7046 (facsimile).

SUPPLEMENTARY INFORMATION: The FAA has decided to prepare an Environmental Impact Statement (EIS) addressing specific improvements at and adjacent to O'Hare International Airport. As presently conceived, the runway construction component of the O'Hare Modernization Program would involve: a new North Runway 9-27, a relocation of existing Runway 18-36 (Arrival Runway 9R-27L), a relocation of existing Runway 14L-32R (arrival Runway 9L-27R), a relocation of existing Runway 14R-32L (South Runway 9-27), an extension of existing Runway 9R-27L, and an extension of existing Runway 9L-27R. Overall, the proposed project would result in O'Hare International Airport ultimately having a total of eight runways: six parallel east-west runways, and two parallel runways oriented in the northeast-southwest direction. In addition, the O'Hare Modernization Program would also potentially involve relocation of some or all existing navigation aids, placement of new navigation aids, revision to existing air traffic control procedures, provision of a new western access to the Airport, additional terminal facilities, and various roadway and rail line relocations. Finally, the potential acquisition of approximately 539 housing units, 109 businesses, and 433 acres of property outside of the Airport's present boundaries is also envisioned. The purpose and need for the above-identified improvements will be presented and reviewed in FAA's forthcoming EIS. In addition, reasonable alternatives, including the “no-build,” use of other existing/proposed airports, alternative O'Hare configurations, and a different number of O'Hare runways alternatives will all be considered.

Federal, State, local agencies, and other interested parties, are invited to make comments and suggestions in order to ensure that the full range of environmental issues related to the above-identified matters are identified. Copies of a scoping document providing additional detail can be obtained by contacting the FAA informational contact listed above. The FAA informational contact person identified above should also receive any scoping comments and suggestions by no later than close of business on Friday, September 13, 2002.

Dated: Issued in Des Plaines, Illinois on July 5, 2002.
Philip M. Smithmeyer,
Manager, Chicago Airports District Office, Great Lakes Region.

[FR Doc. 02-18014 Filed 7-16-02; 8:45 am]

BILLING CODE 4910-13-M